DEPARTMENT OF ENERGY

Federal Energy Regulatory Commission

[Docket No. RP04-102-002]

Pinnacle Pipeline Company; Notice Of Compliance Filing

February 12, 2004.

Take notice that on February 9, 2004, Pinnacle Pipeline Company (Pinnacle) tendered for filing to its FERC Gas Tariff, Original Volume 1, Substitute Original Sheet No. 7.

Pinnacle states that the proposed tariff is submitted in compliance with the Commission's Order granting rehearing in Docket No. CP03-323-000, et al.

Pinnacle has revised Original Sheet No. 7 so that the rates that it lists for Rate Schedule FT and Rate Schedule IT services are based on Pinnacle's actual projected throughput volumes, instead of Pinnacle's system capacity. Pinnacle has requested that the Substitute Original Sheet No. 7 be made effective October 8, 2003.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-332 Filed 2-18-04; 8:45 am]

BILLING CODE 6717-01-P